DEPARTMENT OF THE INTERIOR

Fish and Wildlife Service

[FWS-R8-NWRS-2021-N011; FXRS12610800000-212-FF08RSDC00]

Tijuana Estuary Tidal Restoration Program II, Phase I (TETRP II Phase I)

AGENCY: Fish and Wildlife Service, Interior.

ACTION: Notice of intent to prepare an environmental impact statement.

SUMMARY: The U.S. Fish and Wildlife Service's Tijuana Slough National Wildlife Refuge, along with the California Department of Parks and Recreation's Border Field State Park, propose to act in partnership to prepare a joint draft environmental impact statement/environmental impact report to evaluate the impacts on the human environment related to restoring coastal wetlands within the Tijuana River National Estuarine Research Reserve at the southwestern corner of San Diego County, California. We are providing this notice to open a public scoping period and announce our intent to conduct public scoping meetings in accordance with the requirements of the National Environmental Policy Act, and its implementing regulations.

DATES: To ensure consideration in our reviews, we are requesting submission of new information no later than July 12, 2021.

The draft environmental impact statement/environmental impact report is scheduled for release in October 2021. The final environmental impact statement is scheduled for completion by March 2022, with the record of decision expected to be issued in April 2022.

ADDRESSES: You may submit written comments and materials by one of the following methods:

• U.S. Mail: Brian Collins, USFWS, San Diego NWR Complex, 1080 Gunpowder Point Drive, Chula Vista, CA 91910.

• Email: fw8plancomments@fws.gov; please include “TETRP NOI” in the email subject line.

FOR FURTHER INFORMATION CONTACT: Brian Collins, Refuge Manager, at brian_collins@fws.gov or 760-431-9440 extension 273. Individuals who use telecommunication devices for the deaf (TDD) may call the Federal Relay Service at 1-800-877-8339 between 8 a.m. and 8 p.m., Eastern Time, Monday through Friday.

SUPPLEMENTARY INFORMATION: The U.S. Fish and Wildlife Service's (Service) Tijuana Slough National Wildlife Refuge and the California Department of Parks and Recreation's Border Field State Park propose to prepare a draft environmental impact statement/environmental impact report to evaluate the effects of restoring 80 to 85 acres (ac) of coastal wetlands within the Tijuana Estuary, north of Monument Road and south of the existing tidal inlet, in southwestern San Diego County. We are requesting comments concerning the scope of the analysis and identification of relevant information and studies.

Purpose and Need for the Proposed Action

The purpose of the Tijuana Estuary Tidal Restoration Program II, Phase I (TETRP II Phase I) project is to restore native coastal habitats and functions to a portion of the southern arm of the Tijuana Estuary consistent with the recommendations presented in the Tijuana Estuary—Friendship Marsh Restoration Feasibility Study prepared in 2008. The need for the proposed action is to reverse ongoing degradation of coastal resources essential to the long-term survival of listed species, migratory birds, fish, and other aquatic resources, while also increasing the estuary's tidal prism to improve water quality and maintain continuous tidal exchange through the tidal inlet.

Preliminary Proposed Action and Alternatives

Two action alternatives and the no action alternative will be evaluated in the draft environmental impact statement/environmental impact report. Both action alternatives would reconfigure a portion of the southern arm of the Tijuana Estuary to establish coastal wetlands supported by an extensive system of tidal channels intended to increase the estuary's tidal prism and enhance estuarine function within the system. The project site would be excavated to establish elevations with appropriate inundation frequencies to support specific coastal wetland habitat types. Suitable excavated material would be beneficially used to establish and/or reconfigure transitional areas located along the southern edge of the restoration area and/or the barrier dunes to the west, increasing resiliency to sea-level rise. Additionally, some of the excavated material may be suitable for nearshore disposal.

Alternative 1 (Maximum Tidal Prism) is currently identified as the proposed action. This alternative, which would restore approximately 85 ac of coastal habitat, would maximize deeper intertidal habitats, by expanding tidal channels and intertidal mudflat.

Alternative 2 (Reduced Impact Alternative), which would restore approximately 80 ac of coastal habitat, has been designed to preserve existing native plant communities, including high salt marsh and transition zone throughout the project site. The primary tidal connection to Alternative 2 is the existing South Beach Slough, which would be deepened to increase tidal flows into the proposed restoration site.

The primary differences between the two action alternatives include the amount of intertidal mudflat restored versus salt marsh habitat; the total acreage of restored versus preserved habitats; and the number of connections to existing tidal channels.

Under the No Action Alternative, restoration of the estuary would not be implemented. No sediment or vegetation would be removed and no establishment of habitat for the enhancement of biological and hydrological functions within the project site would occur.

Summary of Expected Impacts

Based on our initial evaluation of the proposed action and alternatives, the following impacts would be expected: Conversion of existing upland habitat to coastal wetlands; replacement of high salt marsh habitat with low salt marsh habitat; short-term disturbance to listed and sensitive avian species; temporary increases in dust and other air pollutants during construction; changes to the area's existing fluvial hydrology; temporary impacts to water quality during excavation; temporary and permanent changes to existing public access; and temporary increases in construction traffic on the roadways within the Tijuana River Valley.

Anticipated Permits and Authorizations

The following permits and other authorizations are anticipated to be required:

• U.S. Army Corps of Engineers Clean Water Act (CWA) section 404 Nationwide Permit 27 and others, if appropriate;

• San Diego Regional Water Quality Control Board CWA section 401 water quality certification;

• California Coastal Commission consistency determination in compliance with section 930.34 et seq. of the National Oceanic and Atmospheric Administration (NOAA) federal consistency regulations for actions on Refuge lands and a coastal development permit for actions on Border Field State Park;

• Refuge special use permit to the California Department of Parks and Recreation for construction access and activities on Refuge lands;

• Consultation pursuant to section 7 of the Federal Endangered Species Act with the Service and National Marine Fisheries Service;

• Consultation with Tribes and the State Historic Preservation Officer pursuant to section 106 of the National Historic Preservation Act;

• Consultations with NOAA Fisheries for essential fish habitat under the Magnuson-Stevens Fishery Conservation and Management Act, and for marine mammals pursuant to the Marine Mammal Protection Act.

Schedule for the Decision-Making Process

Processing of the environmental impact statement from the public scoping stage to the signing of the record of decision, is expected to take approximately 1 year. Subsequent actions will involve the processing of all required permits needed to implement restoration, which is not expected to occur until additional funding is identified for project implementation.

Public Scoping Process

This notice of intent initiates the 45-day scoping process, which guides the development of the draft environmental impact statement/environmental impact report. The scoping process is designed to elicit comments from the public, public agencies, Tribal governments, and other interested parties on the scope of the draft environmental impact statement. All interested parties are encouraged to provide written comments and to participate in upcoming public scoping meetings. The details about upcoming public scoping meetings will be posted on the Tijuana Slough National Wildlife Refuge website at www.fws.gov/refuge/Tijuana_Slough/what_we_do/resource_management .html (click on “TETRP II Phase I”). Requests to be contacted about scheduled scoping opportunities should be submitted via any of the contact methods provided under ADDRESSES or FOR FURTHER INFORMATION CONTACT, above.

Request for Identification of Potential Alternatives, Information, and Analyses Relevant to the Proposed Action

The Service requests comments concerning the scope of the analysis and identification of relevant information and studies. All interested parties are invited to provide input related to the identification of potential alternatives, information, and analyses relevant to the Proposed Action in writing or during the public scoping meeting. All written comments should be submitted via any of the methods provided under ADDRESSES.

Lead and Cooperating Agencies

The Service is the lead agency for the environmental impact statement, and the U.S. Army Corps of Engineers will participate as a cooperating agency. The California Department of Parks and Recreation will serve as the lead State agency for those components of the project that are under the jurisdiction of the State of California.

Decision Maker

The Decision Maker is the Service's Regional Director for the Department of the Interior Region 8.

Nature of Decision To Be Made

The Regional Director, after considering the analysis and information provided in the final environmental impact statement, as well as the comments received throughout the review process, will select the alternative that best achieves the purpose and need for the intended action. The decision, which will be documented in the record of decision, will also consider the consistency of the action with agency policies, regulations, and applicable laws, and the contribution the action will make towards achieving the purposes for which the Tijuana Slough National Wildlife Refuge was established, while also contributing to the mission and goals of the National Wildlife Refuge System.

Public Availability of Comments

Before including your address, phone number, email address, or other personal identifying information in your comment, you should be aware that your entire comment—including your personal identifying information—may be made publicly available at any time. While you can ask us in your comment to withhold your personal identifying information from public review, we cannot guarantee that we will be able to do so.

Authority

This document is published under the authority of the National Environmental Policy Act regulations pertaining to the publication of a notice of intent to issue an environmental impact statement (40 CFR 1501.9(d)).

Martha Maciel,
Acting Regional Director, Sacramento, California.

[FR Doc. 2021-11251 Filed 5-26-21; 8:45 am]

BILLING CODE 4333-15-P